ENVIRONMENTAL PROTECTION AGENCY

40 CFR Part 52

[ID-04-002; FRL -7842-3]

Approval and Promulgation of Air Quality Implementation Plans; Idaho; Revised Format for Materials Being Incorporated by Reference

AGENCY: Environmental Protection Agency (EPA).

ACTION: Final rule; notice of administrative change.

SUMMARY: EPA is revising the format of 40 CFR part 52 for materials submitted by the State of Idaho that are incorporated by reference (IBR) into its State Implementation Plan (SIP). The regulations affected by this format change have all been previously submitted by Idaho and approved by EPA.

Effective Date: This action is effective January 25, 2005.

ADDRESSES: SIP materials which are incorporated by reference into 40 CFR part 52 are available for inspection at the following locations: US Environmental Protection Agency, Region 10, Office of Air, Waste, and Toxics (OAWT-107), 1200 Sixth Avenue, Seattle, Washington 98101; U.S. Environmental Protection Agency Docket Center, EPA West, 1301 Constitution Avenue, NW., Room B102, Washington, DC 20004; and the National Archives and Records Administration (NARA). For information on the availability of this material at NARA, call 202-741-6030 or go to http://www.archives.gov/federal_register/code_of_federal_regulations/ibr_locations.html.

FOR FURTHER INFORMATION CONTACT: Donna Deneen at the above Region 10 address or at (206) 553-6706.

SUPPLEMENTARY INFORMATION: Throughout this document, wherever “we” or “our” is used it means the EPA.

Table of Contents

I. Change of Incorporation by Reference (IBR) Format

A. Description of a SIP

B. How EPA Enforces the SIP

C. How the State and EPA Update the SIP

D. How EPA Compiles the SIP

E. How EPA Organizes the SIP Compilation

F. Where You Can Find a Copy of the SIP Compilation

G. The Format of the New Identification of Plan Section

H. When a SIP Revision Becomes Federally Enforceable

I. The Historical Record of SIP Revision Approvals

II. What EPA is Doing in This Action

III. Good Cause Exemption

IV. Statutory and Executive Order Review

A. General Requirements

B. Submission to Congress and the Comptroller General

C. Petitions for Judicial Review

I. Change of Incorporation by Reference (IBR) Format

This format revision will affect the “identification of plan” section of 40 CFR part 52, as well as the format of the SIP materials that will be available for public inspection at NARA; Air and Radiation Docket and Information Center; and the EPA Region 10 Office. The sections of 40 CFR part 52, pertaining to provisions promulgated by EPA or state-submitted materials not subject to IBR review, remain unchanged.

A. Description of a SIP

Each state has a SIP containing the control measures and strategies used to attain and maintain the national ambient air quality standards (NAAQS). The SIP is extensive, containing such elements as air pollution control regulations, emission inventories, monitoring network, attainment demonstrations, and enforcement mechanisms.

B. How EPA Enforces the SIP

Each SIP revision submitted by a state must undergo reasonable notice and public hearing at the state level, and SIPs submitted to EPA to attain or maintain the NAAQS must include enforceable emission limitations and other control measures, schedules and timetables for compliance.

EPA evaluates submitted SIPs to determine if they meet the Clean Air Act's requirements. If a SIP meets the Clean Air Act's requirements, EPA will approve the SIP. EPA's notice of approval is published in the Federal Register and the approval is then codified in the Code of Federal Regulations (CFR) at 40 CFR part 52. Once EPA approves a SIP, it is enforceable by EPA and citizens in federal district court.

The full text of the state regulation approved by EPA is not reproduced in its entirety in 40 CFR part 52, but is incorporated by reference (“IBR”). This means that EPA has approved a given state regulation with a specific effective date. The public is referred to the location of the full text version should they want to know which measures are contained in a given SIP (see “I.F. Where You Can Find a Copy of the SIP Compilation”). The information provided allows EPA and the public to monitor the extent to which a state implements the SIP to attain and maintain the NAAQS and to take enforcement action if necessary.

C. How the State and EPA Update the SIP

The SIP is a living document which the state can revise as necessary to address the unique air pollution problems in the state. Therefore, EPA from time to time must take action on SIP revisions containing new and/or revised regulations as being part of the SIP. On May 22, 1997 (62 FR 27968), EPA revised the procedures for incorporating by reference Federally-approved SIPs.

EPA began the process of developing: (1) A revised SIP document for each state that would be incorporated by reference under the provisions of 1 CFR part 51; (2) a revised mechanism for announcing EPA approval of revisions to an applicable SIP and updating both the IBR document and the CFR; and (3) a revised format of the “identification of plan” sections for each applicable subpart to reflect these revised IBR procedures.

The description of the revised SIP document, IBR procedures, and “identification of plan” format are discussed in further detail in the May 22, 1997, Federal Register document.

D. How EPA Compiles the SIP

The Federally-approved regulations and source-specific permits (entirely or portions thereof) submitted by each state agency have been organized by EPA into a SIP compilation. The SIP Compilation contains the updated regulations and source-specific requirements approved by EPA through previous rulemaking actions in the Federal Register. The compilations are in hard copy and will be updated, primarily on an annual basis.

E. How EPA Organizes the SIP Compilation

Each compilation contains two parts. Part 1 contains the state regulations and Part 2 contains the source-specific requirements that have been approved as part of the SIP. Each part has a table of contents identifying each regulation or each source-specific requirement. The effective date in the tables indicates the date of the most recent revision to a particular regulation. The table of contents in the compilation corresponds to the table of contents published in 40 CFR part 52 for each state. The EPA Regional Offices have the primary responsibility for ensuring accuracy and updating the compilations.

F. Where You Can Find a Copy of the SIP Compilation

EPA Region 10 developed and will maintain the annually updated hard copy of the compilation for Idaho. The hard copy of the annually updated compilation will also be maintained at the Air and Radiation Docket and Information Center, U.S. Environmental Protection Agency, Room B-108 (Mail Code 6102T), 1301 Constitution Ave., NW., Washington, DC 20460; and NARA. For information on the availability of this material at NARA, call 202-741-6030 or go to http://www.archives.gov/federal_register/code_of_federal_regulations/ibr_locations.html. Copies of Idaho regulations approved by EPA are also available on the following web page: www.epa.gov/r10earth/sips.htm.

G. The Format of the New Identification of Plan Section

In order to better serve the public, EPA revised the organization of the “identification of plan” section and included additional information to clarify the enforceable elements of the SIP.

The revised identification of plan section contains five subsections:

(a) Purpose and scope;

(b) Incorporation by reference;

(c) EPA-approved regulations;

(d) EPA-approved source-specific requirements; and

(e) EPA-approved nonregulatory provisions such as transportation control measures, statutory provisions, control strategies, monitoring networks, etc.

H. When a SIP Revision Becomes Federally Enforceable

All revisions to the applicable SIP become Federally enforceable as of the effective date of the revisions to paragraphs (c), (d) or (e) of the applicable identification of plan found in each subpart of 40 CFR part 52.

I. The Historical Record of SIP Revision Approvals

To facilitate enforcement of previously approved SIP provisions and to provide a smooth transition to the new SIP processing system, we are retaining the original identification of plan section (see 40 CFR 52.677). This section previously appeared in 40 CFR 52.670. After an initial two-year period, EPA will review its experience with the new system and its ability to enforce previously approved SIP measures, and will decide whether or not to retain the identification of plan appendices for some further period.

II. What EPA Is Doing in This Action

Today's action constitutes a “housekeeping” exercise to ensure that all previous revisions to the state SIP-approved regulations and source-specific requirements are accurately reflected in 40 CFR part 52. When EPA receives a formal SIP revision request, the Agency must publish the proposed revision in the Federal Register and provide for public comment before approval.

Note that the revisions in today's rule include State source-specific requirements that may no longer be appropriate for inclusion in the Idaho SIP. These permits, some of which were issued by the State as early as 1979, are listed in section (d) because EPA previously approved them as state source-specific requirements and they continue to be a part of the Federally-approved SIP until the Idaho Department of Environmental Quality submits a SIP revision meeting Clean Air Act requirements requesting that such permits be removed from the SIP and EPA approves the SIP revision. EPA does not have the authority to remove these permits in the absence of a demonstration that their removal would not interfere with attainment or maintenance of the NAAQS, violate any prevention of significant deterioration increment or result in visibility impairment. Idaho Department of Environmental Quality may request removal by submitting such a demonstration to EPA as a SIP revision. EPA will take action on Idaho's request after providing for public comment.

III. Good Cause Exemption

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs.

Under section 553 of the APA, an agency may find good cause where procedures are “impractical, unnecessary, or contrary to the public interest.” Public comment is “unnecessary” and “contrary to the public interest” since the codification only reflects existing law. Immediate notice in the CFR benefits the public by updating citations.

IV. Statutory and Executive Order Review

A. General Requirements

Under Executive Order 12866 (58 FR 51735, October 4, 1993), this action is not a “significant regulatory action” and is therefore not subject to review by the Office of Management and Budget. This rule is not subject to Executive Order 13211, “Actions Concerning Regulations That Significantly Affect Energy Supply, Distribution, or Use” (66 FR 28355, May 22, 2001) because it is not a significant regulatory action under Executive Order 12866. Because the agency has made a “good cause” finding that this action is not subject to notice-and-comment requirements under the Administrative Procedure Act or any other statute as indicated in the Supplementary Information section above, it is not subject to the regulatory flexibility provisions of the Regulatory Flexibility Act (5 U.S.C. 601 et seq.), or to sections 202 and 205 of the Unfunded Mandates Reform Act of 1995 (UMRA) (Pub. L. 104-4). In addition, this action does not significantly or uniquely affect small governments or impose a significant intergovernmental mandate, as described in sections 203 and 204 of UMRA. This rule also does not have a substantial direct effect on one or more Indian tribes, on the relationship between the Federal government and Indian tribes, or on the distribution of power and responsibilities between the Federal government and Indian tribes, as specified by Executive Order 13175 (65 FR 67249, November 9, 2000), nor will it have substantial direct effects on the States, on the relationship between the national government and the States, or on the distribution of power and responsibilities among the various levels of government, as specified in Executive Order 13132 (64 FR 43255, August 10, 1999). This rule also is not subject to Executive Order 13045 (62 FR 19885, April 23, 1997), because it is not economically significant. This rule does not involve technical standards; thus the requirements of section 12(d) of the National Technology Transfer and Advancement Act of 1995 (15 U.S.C. 272 note) do not apply. The rule also does not involve special consideration of environmental justice related issues as required by Executive Order 12898 (59 FR 7629, February 16, 1994). In issuing this rule, EPA has taken the necessary steps to eliminate drafting errors and ambiguity, minimize potential litigation, and provide a clear legal standard for affected conduct, as required by section 3 of Executive Order 12988 (61 FR 4729, February 7, 1996). EPA has complied with Executive Order 12630 (53 FR 8859, March 15, 1998) by examining the takings implications of the rule in accordance with the “Attorney General's Supplemental Guidelines for the Evaluation of Risk and Avoidance of Unanticipated Takings” issued under the executive order. This rule does not impose an information collection burden under the Paperwork Reduction Act of 1995 (44 U.S.C. 3501 et seq.). EPA's compliance with these statutes and Executive Orders for the underlying rules are discussed in previous actions taken on the State's rules.

B. Submission to Congress and the Comptroller General

The Congressional Review Act (5 U.S.C. 801 et seq.), as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. Today's action simply codifies provisions which are already in effect as a matter of law in Federal and approved State programs. 5 U.S.C. 808(2). As stated previously, EPA has made such a good cause finding, including the reasons therefore, and established an effective date of January 25, 2005. EPA will submit a report containing this rule and other required information to the U.S. Senate, the U.S. House of Representatives, and the Comptroller General of the United States prior to publication of the rule in the Federal Register. These corrections to the identification of plan for Idaho is not a “major rule” as defined by 5 U.S.C. 804(2).

C. Petitions for Judicial Review

EPA has also determined that the provisions of section 307(b)(1) of the Clean Air Act pertaining to petitions for judicial review are not applicable to this action. Prior EPA rulemaking actions for each individual component of the Idaho SIP compilation had previously afforded interested parties the opportunity to file a petition for judicial review in the United States Court of Appeals for the appropriate circuit within 60 days of such rulemaking action. Thus, EPA sees no need in this action to reopen the 60-day period for filing such petitions for judicial review for these “identification of plan” reorganization actions for Idaho.

List of Subjects in 40 CFR Part 52

Environmental protection, Air pollution control, Carbon monoxide, Incorporation by reference, Intergovernmental relations, Lead, Nitrogen dioxide, Ozone, Particulate matter, Reporting and recordkeeping requirements, Sulfur oxides.

Dated: November 15, 2004.
Ronald A. Kreizenbeck,
Acting Regional Administrator, Region 10.

Part 52 of chapter I, title 40, Code of Federal Regulations, is amended as follows:

PART 52—[AMENDED]

1. The authority for citation for part 52 continues to read as follows:

Authority: 42 U.S.C. 7401 et seq.

Subpart N—Idaho

2. Section 52.670 is redesignated as § 52.677 and the heading and paragraph (a) are revised to read as follows:

§ 52.677 Original identification of plan section.

(a) This section identifies the original “Idaho Air Quality Implementation Plan” and all revisions submitted by Idaho that were federally approved prior to November 12, 2004.

* * * * *

3. A new § 52.670 is added to read as follows:

§ 52.670 Identification of plan.

(a) Purpose and scope. This section sets forth the applicable State implementation plan for Idaho under section 110 of the Clean Air Act, 42 U.S.C. 7401, and 40 CFR part 51 to meet national ambient air quality standards.

(b) Incorporation by reference.

(1) Material listed in paragraphs (c) and (d) of this section with an EPA approval date prior to November 12, 2004, was approved for incorporation by reference by the Director of the Federal Register in accordance with 5 U.S.C. 552(a) and 1 CFR part 51. Material is incorporated as it exists on the date of the approval, and notice of any change in the material will be published in the Federal Register. Entries in paragraphs (c) and (d) of this section with EPA approval dates after November 12, 2004, will be incorporated by reference in the next update to the SIP compilation.

(2) EPA Region 10 certifies that the rules/regulations provided by EPA in the SIP compilation at the addresses in paragraph (b)(3) of this section are an exact duplicate of the officially promulgated State rules/regulations which have been approved as part of the State Implementation Plan as of November 12, 2004.

(3) Copies of the materials incorporated by reference may be inspected at the Region 10 EPA Office at 1200 Sixth Avenue, Seattle, WA 98101; the EPA, Air and Radiation Docket and Information Center, Air Docket, 1301 Constitution Avenue, NW., Washington, DC 20004; or at the National Archives and Records Administration (NARA). For information on the availability of this material at NARA, call 202-741-6030 or go to http://www.archives.gov/federal_register/code_of_federal_regulations/ibr_locations.html.

(c) EPA approved regulations.

EPA—Approved Idaho Regulations
[Idaho Administrative Procedures Act (IDAPA) Chapter 58, Rules for the Control of Air Pollution in Idaho, Previously Codified at IDAPA Chapter 39 (Appendix A.3)]
State citation | Title/subject | State effective date | EPA approval date | Explanations
58.01.01—Rules for the Control of Air Pollution in Idaho
001 | Title and Scope | 5/1/94 | 01/16/03, 68 FR 2217
004 | Catchlines | 5/1/94 | 01/16/03, 68 FR 2217
005 | Definitions | 5/1/94 | 01/16/03, 68 FR 2217
006 | General Definitions | 4/5/00 3/20/97 5/1/95 5/1/94 | 01/16/03, 68 FR 2217
007 | Definitions for the Purposes of Sections 200 Through 225 and 400 Through 461 | 4/5/00 6/30/95 5/1/95 5/1/94 | 01/16/03, 68 FR 2217
106 | Abbreviations | 5/1/94 | 01/16/03, 68 FR 2217
107 | Incorporations by Reference | 7/1/97 5/1/94 | 01/16/03, 68 FR 2217 | (Except subsection 107.03).
121 | Compliance Requirements by Department | 5/1/94 | 01/16/03, 68 FR 2217
122 | Information Orders by the Department | 4/5/00 5/1/94 | 01/16/03, 68 FR 2217
123 | Certification of Documents | 5/1/94 | 01/16/03, 68 FR 2217
124 | Truth, Accuracy Completeness of Documents | 5/1/94 | 01/16/03, 68 FR 2217
125 | False Statements | 3/23/98 | 01/16/03, 68 FR 2217
126 | Tampering | 3/23/98 | 01/16/03, 68 FR 2217
127 | Format of Responses | 5/1/94 | 01/16/03, 68 FR 2217
130 | Startup, Shutdown, Scheduled Maintenance, Safety Measures, Upset and Breakdown | 4/5/00 | 01/16/03, 68 FR 2217
131 | Excess Emissions | 4/5/00 | 01/16/03, 68 FR 2217
132 | Correction of Condition | 4/5/00 | 01/16/03, 68 FR 2217
133 | Startup, Shutdown and Scheduled Maintenance Requirements | 4/5/00 3/20/97 | 01/16/03, 68 FR 2217
134 | Upset, Breakdown, and Safety Requirements | 4/5/00 3/20/97 | 01/16/03, 68 FR 2217
135 | Excess Emission Reports | 4/5/00 3/20/97 | 01/16/03, 68 FR 2217
136 | Excess Emission Records | 4/5/00 3/23/98 3/20/97 | 01/16/03, 68 FR 2217
155 | Circumvention | 4/5/00 | 01/16/03, 68 FR 2217
156 | Total Compliance | 5/1/94 | 01/16/03, 68 FR 2217
157 | Test Methods and Procedures | 4/5/00 | 01/16/03, 68 FR 2217
160 | Provisions Governing Specific Activities and Conditions | 4/5/00 | 01/16/03, 68 FR 2217
162 | Modifying Physical Conditions | 5/1/94 | 01/16/03, 68 FR 2217
163 | Source Density | 5/1/94 | 01/16/03, 68 FR 2217
164 | Polychlorinated Biphenyls (PCBs) | 5/1/94 | 01/16/03, 68 FR 2217
200 | Procedures and Requirements for Permits to Construct | 4/5/00 | 01/16/03, 68 FR 2217
201 | Permit to Construct Required | 3/30/01 | 01/16/03, 68 FR 2217
202 | Application Procedures | 4/5/00 5/1/94 | 01/16/03, 68 FR 2217
203 | Permit Requirements for New and Modified Stationary Sources | 5/1/94 | 01/16/03, 68 FR 2217 | (Except subsection 203.03).
204 | Permit Requirements for New Major Facilities or Major Modifications in Nonattainment Areas | 3/30/01 4/5/00 5/1/94 | 4/17/2001, 66 FR 19722
205 | Permit Requirements for New Major Facilities or Major Modifications in Attainment or Unclassifiable Areas | 4/5/00 5/1/94 | 01/16/03, 68 FR 2217
206 | Optional Offsets for Permits to Construct | 6/30/95 | 01/16/03, 68 FR 2217
207 | Requirements for Emission Reduction Credit | 5/1/94 | 01/16/03, 68 FR 2217
208 | Demonstration of Net Air Quality Benefit | 4/5/00 5/1/94 | 01/16/03, 68 FR 2217
209 | Procedures for Issuing Permits | 4/5/00 3/19/99 3/23/98 5/1/94 | 01/16/03, 68 FR 2217
211 | Conditions for Permits to Construct | 5/1/94 | 01/16/03, 68 FR 2217
212 | Obligation to Comply | 5/1/94 | 01/16/03, 68 FR 2217
213 | Pre-permit Construction | 4/5/00 3/23/98 | 01/16/03, 68 FR 2217
220 | General Exemption Criteria for Permit to Construct Exemptions | 4/5/00 | 01/16/03, 68 FR 2217
221 | Category I Exemption | 4/5/00 | 01/16/03, 68 FR 2217
222 | Category II Exemption | 4/5/00 7/1/97 5/1/94 | 01/16/03, 68 FR 2217 | (Except subsection 222.03).
400 | Procedures and Requirements for Tier II Operating Permits | 5/1/94 | 01/16/03, 68 FR 2217
401 | Tier II Operating Permit | 4/5/00 3/19/99 5/1/94 | 01/16/03, 68 FR 2217 | (Except subsections 401.01.a and 401.04).
402 | Application Procedures | 4/5/00 5/1/94 | 01/16/03, 68 FR 2217
403 | Permit Requirements for Tier II Sources | 5/1/94 | 01/16/03, 68 FR 2217
404 | Procedure for Issuing Permits | 4/5/00 5/1/94 | 01/16/03, 68 FR 2217
405 | Conditions for Tier II Operating Permits | 5/1/94 | 01/16/03, 68 FR 2217
406 | Obligation to Comply | 5/1/94 | 01/16/03, 68 FR 2217
460 | Requirements for Emission Reduction Credit | 4/5/00 5/1/94 | 01/16/03, 68 FR 2217
461 | Requirements for Banking Emission Reduction Credits (ERC's) | 4/5/00 5/1/94 | 01/16/03, 68 FR 2217
470 | Permit Application Fees for Tier II Permits | 3/7/95 | 01/16/03, 68 FR 2217
500 | Registration Procedures and Requirements for Portable Equipment | 5/1/94 | 01/16/03, 68 FR 2217
510 | Stack Heights and Dispersion Techniques | 5/1/94 | 01/16/03, 68 FR 2217
511 | Applicability | 4/5/00 | 01/16/03, 68 FR 2217
512 | Definitions | 4/5/00 5/1/94 | 01/16/03, 68 FR 2217
513 | Requirements | 4/5/00 | 01/16/03, 68 FR 2217
514 | Opportunity for Public Hearing | 5/1/94 | 01/16/03, 68 FR 2217
515 | Approval of Field Studies and Fluid Models | 5/1/94 | 01/16/03, 68 FR 2217
516 | No Restriction on Actual Stack Height | 5/1/94 | 01/16/03, 68 FR 2217
550 | Air Pollution Emergency Rule | 5/1/94 | 01/16/03, 68 FR 2217
551 | Episode Criteria | 5/1/94 | 01/16/03, 68 FR 2217
552 | Stages | 3/15/02 5/1/94 | 01/16/03, 68 FR 2217
553 | Effect of Stages | 3/15/02 | 01/16/03, 68 FR 2217
556 | Criteria for Defining Levels Within Stages | 3/15/02 4/5/00 | 01/16/03, 68 FR 2217
557 | Public Notification | 5/1/94 | 01/16/03, 68 FR 2217
558 | Information to Be Given | 3/15/02 5/1/94 | 01/16/03, 68 FR 2217
559 | Manner and Frequency of Notification | 5/1/94 | 01/16/03, 68 FR 2217
560 | Notification to Sources | 4/5/00 | 01/16/03, 68 FR 2217
561 | General Rules | 3/15/02 4/5/00 5/1/94 | 01/16/03, 68 FR 2217
562 | Specific Emergency Episode Abatement Plans for Point Sources | 5/1/94 | 01/16/03, 68 FR 2217
563 | Transportation Conformity | 3/30/01 | 04/12/01, 66 FR 18873
564 | Incorporation by Reference | 3/30/01 | 04/12/01, 66 FR 18873
565 | Abbreviations | 3/30/01 | 04/12/01, 66 FR 18873
566 | Definitions for the Purpose of Sections 563 Through 574 and 582 | 3/30/01 | 04/12/01, 66 FR 18873
567 | Agencies Affected by Consultation | 3/30/01 | 04/12/01, 66 FR 18873
568 | ICC Member Roles in Consultation | 3/30/01 | 04/12/01, 66 FR 18873
569 | ICC Member Responsibilities in Consultation | 3/30/01 | 04/12/01, 66 FR 18873
570 | General Consultation Process | 3/30/01 | 04/12/01, 66 FR 18873
571 | Consultation Procedures | 3/30/01 | 04/12/01, 66 FR 18873
572 | Final Conformity Determinations by USDOT | 3/30/01 | 04/12/01, 66 FR 18873
573 | Resolving Conflicts | 3/30/01 | 04/12/01, 66 FR 18873
574 | Public Consultation Procedures | 3/30/01 | 04/12/01, 66 FR 18873
575 | Air Quality Standards and Area Classification | 4/5/00 | 01/16/03, 68 FR 2217
576 | General Provisions for Ambient Air Quality Standards | 5/1/94 | 01/16/03, 68 FR 2217
577 | Ambient Air Quality Standards for Specific Air Pollutants | 5/1/94 | 01/16/03, 68 FR 2217 | (Except subsection 577.06).
578 | Designation of Attainment, Unclassifiable, and Nonattainment Areas | 5/1/94 | 01/16/03, 68 FR 2217
579 | Baselines for Prevention of Significant Deterioration | 4/5/00 5/1/94 | 01/16/03, 68 FR 2217
580 | Classification of Prevention of Significant Deterioration Areas | 4/5/00 5/1/94 | 01/16/03, 68 FR 2217
581 | Prevention of Significant Deterioration (PSD) Increments | 4/5/00 7/1/97 5/1/94 | 01/16/03, 68 FR 2217
582 | Interim Conformity Provisions for Northern Ada County Former Nonattainment Area for PM-10 | 3/30/01 | 04/12/01, 66 FR 18873
600 | Rules for Control of Open Burning | 3/19/99 | 01/16/01
601 | Fire Permits, Hazardous Materials and Liability | 5/1/94 | 01/16/03
602 | Nonpreemption of Other Jurisdictions | 5/1/94 | 1/16/03, 68 FR 2217
603 | General Restrictions | 5/1/94 | 1/16/03, 68 FR 2217
604 | Alternatives to Open Burning | 5/1/94 | 01/16/03, 68 FR 2217
606 | Categories of Allowable Burning | 5/1/94 | 01/16/03, 68 FR 2217
607 | Recreational and Warming Fires | 5/1/94 | 01/16/03, 68 FR 2217
608 | Weed Control Fires | 5/1/94 | 01/16/03, 68 FR 2217
609 | Training Fires | 5/1/94 | 01/16/03, 68 FR 2217
610 | Industrial Flares | 5/1/94 | 01/16/03, 68 FR 2217
611 | Residential Solid Waste Disposal Fires | 5/1/94 | 01/16/03, 68 FR 2217
612 | Landfill Disposal Site Fires | 3/19/99 | 01/16/03, 68 FR 2217
613 | Orchard Fires | 4/5/00 5/1/94 | 01/16/03, 68 FR 2217
614 | Prescribed Burning | 5/1/94 | 01/16/03, 68 FR 2217
615 | Dangerous Material Fires | 5/1/94 | 01/16/03, 68 FR 2217
616 | Infectious Waste Burning | 5/1/94 | 01/16/03, 68 FR 2217
625 | Visible Emissions | 4/5/00 5/1/94 | 01/16/03, 68 FR 2217
626 | General Restrictions on Visible Emissions from Wigwam Burners | 4/5/00 | 01/16/03, 68 FR 2217
650 | Rules for Control of Fugitive Dust | 5/1/94 | 01/16/03, 68 FR 2217
651 | General Rules | 5/1/94 | 01/16/03, 68 FR 2217
675 | Fuel Burning Equipment—Particulate Matter | 4/5/00 | 01/16/03, 68 FR 2217
676 | Standards for New Sources | 5/1/94 | 01/16/03, 68 FR 2217
677 | Standards for Minor and Existing Sources | 5/1/94 | 01/16/03, 68 FR 2217
678 | Combinations of Fuels | 5/1/94 | 01/16/03, 68 FR 2217
679 | Averaging Period | 4/5/00 5/1/94 | 01/16/03, 68 FR 2217
680 | Altitude Correction | 5/1/94 | 01/16/03, 68 FR 2217
681 | Test Methods and Procedures | 4/5/00 | 01/16/03, 68 FR 2217
700 | Particulate Matter—Process Weight Limitations | 4/5/00 | 01/16/03, 68 FR 2217
701 | Particulate Matter—New Equipment Process Weight Limitations | 4/5/00 | 01/16/03, 68 FR 2217
702 | Particulate Matter—Existing Equipment Process Weight Limitations | 4/5/00 5/1/94 | 01/16/03, 68 FR 2217
703 | Particulate Matter—Other Processes | 4/5/00 | 01/16/03, 68 FR 2217
725 | Rules for Sulfur Content of Fuels | 4/5/00 | 01/16/03, 68 FR 2217
726 | Definitions as Used in Sections 727 Through 729 | 5/1/94 | 01/16/03, 68 FR 2217
727 | Residual Fuel Oils | 5/1/94 | 01/16/03, 68 FR 2217
728 | Distillate Fuel Oil | 5/1/94 | 01/16/03, 68 FR 2217
729 | Coal | 5/1/94 | 01/16/03, 68 FR 2217
785 | Rules for Control of Incinerators | 5/1/94 | 01/16/03, 68 FR 2217
786 | Emission Limits | 4/5/00 | 01/16/03, 68 FR 2217
787 | Exceptions | 3/23/98 | 01/16/03, 68 FR 2217
805 | Rules for Control of Hot-mix Asphalt Plants | 5/1/94 | 01/16/03, 68 FR 2217
806 | Emission Limits | 5/1/94 | 01/16/03, 68 FR 2217
807 | Multiple Stacks | 5/1/94 | 01/16/03, 68 FR 2217
808 | Fugitive Dust Control | 5/1/94 | 01/16/03, 68 FR 2217
815 | Rules for Control of Kraft Pulping Mills | 5/1/94 | 01/16/03, 68 FR 2217
816 | Statement of Policy | 5/1/94 | 01/16/03, 68 FR 2217
817 | General Rules | 5/1/94 | 01/16/03, 68 FR 2217
821 | Recovery Furnace Particulate Standards | 5/1/94 | 01/16/03, 68 FR 2217
822 | Lime Kiln Standards | 5/1/94 | 01/16/03, 68 FR 2217
823 | Smelt Tank Standards | 5/1/94 | 01/16/03, 68 FR 2217
824 | Monitoring and Reporting | 4/5/00 5/1/94 | 01/16/03, 68 FR 2217 | (Except subsection 824.01).
825 | Special Studies | 5/1/94 | 01/16/03, 68 FR 2217
826 | Exceptions | 5/1/94 | 01/16/03, 68 FR 2217
845 | Rules for Control of Sulfur Oxide Emissions from Sulfuric Acid Plants | 5/1/94 | 01/16/03, 68 FR 2217
846 | Emission Limits | 4/5/00 | 01/16/03, 68 FR 2217
847 | Monitoring and Testing | 4/5/00 | 01/16/03, 68 FR 2217
848 | Compliance Schedule | 5/1/94 | 01/16/03, 68 FR 2217
City and County Ordinances
City of Sandpoint Ordinance No. 939 | Material Specifications for Street Sanding Material | 02/22/94 (City adoption date) | 06/26/02, 67 FR 43006 | Sandpoint PM10 Nonattainment Area Plan.
City of Sandpoint Ordinance No. 965 | Solid Fuel Heating Appliance Ordinance | 02/21/95 (City adoption date) | 06/26/02, 67 FR 43006 | Sandpoint PM10 Nonattainment Area Plan.
Ada County Ordinance | The 1999 Motor Vehicle Emissions Control Ordinance | 06/15/99 (County approval date) | 10/28/2002, 67 FR 65713 | Northern Ada County CO Maintenance Plan.
City of Boise Ordinance | The 1999 Motor Vehicle Emissions Control Ordinance | 07/20/99 (City approval date) | 10/28/2002, 67 FR 65713 | Northern Ada County CO Maintenance Plan.
City of Eagle Ordinance | The 1999 Motor Vehicle Emissions Control Ordinance | 04/27/99 (City approval date) | 10/28/2002, 67 FR 65713 | Northern Ada County CO Maintenance Plan.
City of Garden City Ordinance | The 1991 Vehicle Emission Control Ordinance | 08/13/96 (Most recently amended) | 10/28/2002, 67 FR 65713 | Northern Ada County CO Maintenance Plan.
City of Meridian Ordinance | The 1999 Motor Vehicle Emissions Control Ordinance | 06/01/99 (City approval date) | 10/28/2002, 67 FR 65713 | Northern Ada County CO Maintenance Plan.
Boise City Ordinance 4432 | Parking Permits | 08/13/79 (City approval date) | 06/06/85, 50 FR 23810 | Transportation Control Plan for carbon monoxide, Ada County.
City of Garden City Ordinance 514,533, and 624 | Solid Fuel Heating Appliance Ordinance of the City of Garden City, Idaho | 05/14/87, 01/10/89, 09/13/94 (City approval dates) | 05/30/96, 61 FR 27019 | Northern Ada County PM10 Nonattainment Area Plan.
Meridian Ordinance 667 | Meridian Clean Air Ordinance | 08/16/94 (City approval date) | 05/30/96, 61 FR 27019 | Northern Ada County PM10 Nonattainment Area Plan.
City of Eagle Ordinance 245 | City of Eagle Clean Air Ordinance | 04/26/94 (City approval date) | 05/30/96, 61 FR 27019 | Northern Ada County PM10 Nonattainment Area Plan.
Ada County Ordinance 254 | Ada County Clean Air Ordinance | 11/03/92 (County adoption date) | 05/30/96, 61 FR 27019 | Northern Ada County PM10 Nonattainment Area Plan.
Table: Ordinance-1 | Explanation of enforcement procedures, responsibilities and sources of funding for the Northern Ada County Wood Burning Control Ordinances | 12/30/94 (date of table) | 05/30/96, 61 FR 27019 | Northern Ada County PM10 Nonattainment Area Plan.

(d) EPA-approved State Source-specific requirements.

EPA-Approved Idaho Source-Specific Requirements ¹
Name of source | Permit number | State effective date | EPA approval date | Explanation
LP Wood Polymers, Inc., Meridian, Idaho | 001-00115 | 07/12/02 | 10/27/03, 68 FR 61106 | The following conditions: 1.1, 1.3, 3.1, and the Appendix. (Boise/Ada County Maintenance Plan).
Consolidated Concrete Company, Boise, Idaho | 001-00046 | 12/03/01 | 10/27/03, 68 FR 61106 | The following conditions: 1.1, 1.3, 2.3, 3.1, 3.2, and the Appendix. (Boise/Ada County Maintenance Plan).
Crookham Company, Caldwell, Idaho | 027-00020 | 01/18/02 | 10/27/03, 68 FR 61106 | The following conditions: 1.1, 1.3, 2.1, 2.3, 3.1, 3.1.1, 3.1.2, 3.2, and the Appendix. (Boise/Ada County Maintenance Plan).
Double D Service Center, Meridian, Idaho | 001-00168 | 02/04/02 | 10/27/03, 68 FR 61106 | The following conditions: 1.1, 1.3, 3.1, 3.2.1, 3.2.2, 3.2.3, and the Appendix. (Boise/Ada County Maintenance Plan).
Plum Creek Northwest Lumber, Inc., Meridian, Idaho | 001-00091 | 07/12/02 | 10/27/03, 68 FR 61106 | The following conditions: 1.1, 1.3, 2.1.2, 3.1, and the Appendix. (Boise/Ada County Maintenance Plan).
C. Wright Construction, Inc., Meridian, Idaho | T2-000033 | 07/08/03 | 10/27/03, 68 FR 61106 | The following conditions: 2 (heading only), 2.5, (2.12, Table 2.2 as it applies to PM10), 2.14, 3 (heading only), 3.3, Table 3.2, 3.4, 3.5, 3.6, 3.7, 3.8, 3.10, 4 (heading only), 4.2, 4.3, 4.4, 4.7, 5, and Table 5.1.(Boise/Ada County Maintenance Plan).
Nelson Construction Co., Boise, Idaho | T2-020029 | 07/21/03 | 10/27/03, 68 FR 61106 | The following conditions: 2 (heading only), 2.12, 2.14, 3 (heading only), 3.3, 3.4, 3.6, 3.7, 3.9, 3.10, 3.11, 3.12, 4 (heading only), 4.3, 4.4, 4.5, 4.6, 5, and Table 5.1. (Boise/Ada County Maintenance Plan).
Mike's Sand and Gravel, Nampa, Idaho | 001-00184 | 07/12/02 | 10/27/03, 68 FR 61106 | The following conditions: 1.1, 1.3, 2.2.1, 3.1, and the Appendix. (Boise/Ada County Maintenance Plan).
Idaho Concrete Co., Eagle, Idaho | T2-020031 | 07/08/03 | 10/27/03, 68 FR 61106 | The following conditions: 2 (heading only), 2.5, 2.13, 3 (heading only), 3.3, 3.4, 3.6, 3.7, 3.8, 4 (heading only), and Table 4.1.(Boise/Ada County Maintenance Plan).
Idaho Concrete Co., Eagle, Idaho | T2-020032 | 07/08/03 | 10/27/03, 68 FR 61106 | The following conditions: 2 (heading only), 2.5, 2.13, 3 (heading only), 3.3, 3.4, 3.6, 3.7, 3.8, 4 (heading only), and Table 4.1.(Boise/Ada County Maintenance Plan).
Idaho Concrete Co. Eagle, Idaho | T2-020033 | 07/08/03 | 10/27/03, 68 FR 61106 | The following conditions: 2 (heading only), 2.5, 2.13, 3 (heading only), 3.3, 3.4, 3.6, 3.7, 3.8, 4 (heading only), and Table 4.1. (Boise/Ada County Maintenance Plan).
The Amalgamated Sugar Company LLC, Nampa, Idaho | 027-00010 | 09/30/02 | 10/27/03, 68 FR 61106 and 11/01/04, 69 FR 63324 | The following conditions: 2 (heading only), (2.7, Table 2.2 as it applies to PM10,) 2.10, 2.10.1, 2.10.2, 2.11, 2.11.1, 2.11.2, 2.11.3, 2.11.4, 2.11.5, 2.12, 2.12.1, 2.12.2, 2.12.3, 2.13, 2.13.1, 2.13.2, 2.13.3, 2.14, 2.14.1, 2.14.2, 2.16, 3 (heading only), (3.3, Table 3.2 as it applies to PM10), 3.5, 3.7, 3.8, 3.8.1, 3.8.2, 3.8.3, 3.8.4, 3.8.5, 3.8.6, 3.8.7, 3.8.8, 3.9, 4 (heading only), (4.3, Table 4.1 as it applies to PM10), 4.5, 4.6, 4.7, 5 (heading only), (5.3, Table 5.3 as it applies to PM10), 5.5, 5.9, 5.9.1, 5.9.2, 5.9.3, 5.9.4, 5.9.5, 5.9.6, 5.9.7, 5.9.8, 5.9.9, 5.10, 5.11, 6 (heading only), 6.3, Table 6.1, 6.5, 6.6, 6.7, 6.7.1, 6.7.2, 6.8, 7 (heading only), 7.3, Table 7.1 as it applies to PM10, 7.5, 7.7, 7.7.1, 7.7.2, 7.8, 8 (heading only), 8.3, Table 8.1, 8.5, 8.7, 8.7.1, 8.7.2, 8.8, 9 (heading only), 9.3, Table 9.1, 9.5, 9.7, 9.7.1, 9.7.2, 9.8, 10 (heading only), 10.3, Table 10.1, 10.6, 10.8, 10.8.1, 10.8.2, 10.9, 11 (heading only), 11.3, Table 11.2, 11.6, 11.8, 11.8.1, 11.8.2, 11.9, 12 (heading only), 12.3, Table 12.1, 12.5, 12.7, 12.7.1, 12.7.2, 12.8, 13 (heading only), 13.1 (except as it applies to condition 13.3, 13.3.1, 13.3.2, 13.5, 13.5.1, 13.5.2, 13.5.3, 13.6, 13.6.1, 13.6.2 and 13.9), Table 13.1 (except conditions 13.3, 13.5 and 13.6), (13.2, Table 13.2 as it applies to PM10), 13.2.1, 13.4, 13.4.1, 13.4.2, 13.4.3, 13.7, 13.7.1, 13.7.2, 13.8, 13.8.1, 13.8.2, 13.8.3, 13.10, and 13.11. (Boise/Ada County PM10 Maintenance Plan).
Lake Pre-Mix, Sandpoint, Idaho | 777-00182 | 05/17/96 | 06/26/02, 67 FR 43006 | The following conditions for the cement silo vent: 1.1, 2.1.1, 2.1.2, 3.1.1, and 3.1.2. (Sandpoint nonattainment area plan).
Interstate Concrete and Asphalt, Sandpoint, Idaho | 017-00048 | 08/02/99 | 06/26/02, 67 FR 43006 | The following conditions: for the asphalt plant, 2.2, 3.1.1, 4.1, 4.1.1, 4.1.2, 4.2.1 (as it applies to the hourly PM10 emission limit in Appendix A), 4.2.2, 4.2.2.1, 4.2.2.2, and 4.2.2.3; for the concrete batch plant, 2.1, 3.1.1, 4.1, 4.1.1, and 4.1.2; Appendix A (as it applies to PM10 emission rates after 7/1/96) and Appendix B (as it applies after 7/1/96). (Sandpoint nonattainment area plan).
Louisiana Pacific Corporation, Sandpoint, Idaho | 017-00003 | 10/31/01 | 06/26/02, 67 FR 43006 | The following conditions: for the Kipper and Sons Hog Fuel Boiler, 2.3 (as it applies to PM10), 2.5, 2.7, 2.13, 2.14, 2.17, 2.19; Natural Gas Boilers, 3.2 (as it applies to PM10); Pneumatic Conveyance, 4.2, 4.4, 4.7; Drying Kilns, 5.2, 5.4, 5.5; Fugitive Emission Sources, 6.5, 6.7, 6.13; and the Appendix (as it applies to PM10).(Sandpoint nonattainment area plan).
Whiteman Lumber Company, Cataldo, ID | 13-1420-062 | 7/16/79 (date issued) | 07/28/82, 47 FR 32530 | Silver Valley TSP Nonattainment Area Plan.
Potlatch Corporation, Pulp and Paper Unit, Lewiston, ID | 13-1140-0001-00 | 07/05/79 (date issued) | 07/28/82, 47 FR 32530 | Lewiston TSP Nonattainment Area Plan.
Potlatch Corporation, Clearwater Unit, Lewiston, ID | 13-1140-0003 | 07/05/79 (date issued) | 07/28/82, 47 FR 32530 | Lewiston TSP Nonattainment Area Plan.
Coast Trading Company, Inc., Lewiston, ID | 13-1140—0011 | 06/29/79 (date issued) | 07/28/82, 47 FR 32530 | Lewiston TSP Nonattainment Area Plan.
Lewis-Clark Terminal Association, Lewiston, ID | 13-1140-0010 | 06/29/79 (date issued) | 07/28/82, 47 FR 32530 | Lewiston TSP Nonattainment Area Plan.
Poe Asphalt, Lewiston, ID | 0880-0008 | 03/01/76 (effective date) | 07/28/82, 47 FR 32530 | Lewiston TSP Nonattainment Area Plan.
FMC Corporation, Pocatello, ID ² | 13-1260-0005 | 02/26/80 (date issued) | 07/28/82, 47 FR 32530 | Pocatello TSP Nonattainment Area Plan.
J.R. Simplot, Pocatello, ID | 13-1260-0006-00 | 03/04/80 (date issued) | 07/28/82, 47 FR 32530 | Pocatello TSP Nonattainment Area Plan.
Idaho Portland Cement Company, Inkom, ID | 13-0080-0004-00 | 07/18/79 (date issued) | 07/28/82, 47 FR 32530 | Pocatello TSP Nonattainment Area Plan.
J.R. Simplot Company, Conda, ID | 13-0420-0021-00 | 07/18/79 (date issued) | 07/28/82, 47 FR 32530 | Soda Springs TSP Nonattainment Area Plan.
Beker Industries, Conda, ID | 13-0420-0003-00 | 07/18/79 (date issued) | 07/28/82, 47 FR 32530 | Soda Springs TSP Nonattainment Area Plan.
Monsanto, Soda Springs, ID | 13-0420-0001-00 | 07/18/79 (date issued) | 07/28/82, 47 FR 32530 | Soda Springs TSP Nonattainment Area Plan.
Kerr McGee, Soda Springs, ID | 13-0420-0002-00 | 07/18/79 (date issued) | 07/28/82, 47 FR 32530 | Soda Springs TSP Nonattainment Area Plan.
¹ EPA does not have the authority to remove these source-specific requirements in the absence of a demonstration that their removal would not interfere with attainment or maintenance of the NAAQS, violate any prevention of significant deterioration increment or result in visibility impairment. Idaho Department of Environmental Quality may request removal by submitting such a demonstration to EPA as a SIP revision.
² Only a small portion of this facility is located on State lands. The vast majority of the facility is located in Indian Country. It is EPA's position that unless EPA has explicitly approved a program as applying in Indian country, State or local regulations or permits are not effective within the boundaries of that Indian country land for purposes of complying with the CAA. 68 FR 2217, 2220 (January 16, 2003).

(e) EPA Approved Nonregulatory provisions and Quasi-Regulatory Measures.

EPA-Approved Idaho Nonregulatory Provisions and Quasi-Regulatory Measures
Name of SIP provision | Applicable geographic or nonattainment area | State submittal date | EPA approval date | Comments
Chapter I—Introduction | State-wide | 01/15/80 | 07/28/82, 47 FR 32530
Chapter II—Administration | State-wide | 01/15/80 | 07/28/82, 47 FR 32530
Chapter III—Emission Inventory | State-wide | 01/15/80, 02/14/80 | 07/28/82, 47 FR 32530
Chapter IV—Air Quality Monitoring | State-wide | 01/15/80 | 07/28/82, 47 FR 32530
Chapter V—Source Surveillance | State-wide | 01/15/80 | 07/28/82, 47 FR 32530
Chapter VI—Emergency Episode Plan | State-wide | 01/15/80 | 07/28/82, 47 FR 32530
Chapter VIII—Nonattainment Area Plans
Chapter VIII-a | Silver Valley TSP Nonattainment Area Plan | 01/15/80 | 07/28/82, 47 FR 32530
Chapter VIII-b | Lewiston TSP Nonattainment Area Plan | 01/15/80, 12/04/80, and 02/05/81 | 07/28/82, 47 FR 32530
Chapter VIII-c | Transportation Control Plan for carbon monoxide, Ada County | 05/24/84, 01/03/85, 03/25/85, and 06/29/94 | 7/28/82, 47 FR 32530, 06/06/85, 50 FR 23810, and 12/1/94, 59 FR 61546
Chapter VIII-d | Pocatello TSP Nonattainment Area Plan | 03/07/80 and 02/05/81 | 07/28/82, 47 FR 32530
Chapter VIII-e | Soda Springs TSP Nonattainment Area Plan | 01/15/80 | 07/28/82, 47 FR 32530
Chapter VIII-f | Pinehurst PM-10 Nonattainment Area Plan | 04/14/92 | 08/25/94, 59 FR 43745
Chapter VIII-g | Northern Ada County PM10 Nonattainment Area Plan | 11/14/91, 12/30/94, and 7/13/95 | 05/30/96, 61 FR 27019
Chapter VIII-h | Sandpoint PM10 Nonattainment Area Plan | 08/16/96 | 06/26/02, 67 FR 43006
Chapter VIII-i | Northern Ada County CO Limited Maintenance Plan | 01/17/02 | 10/28/02, 67 FR 65713
Chapter VIII-j | Ada County/Boise Idaho PM-10 Maintenance Plan | 09/27/02, 07/10/03, and 07/21/03 | 10/27/03, 68 FR 61106
Chapter IX—Reserved
Chapter X—Plan for Maintenance of National Ambient Air Quality Standards for Lead | State-wide | 02/03/84 | 06/04/84 (EPA effective date)
Small Business Assistance Program | State-wide | 01/03/94 | 09/19/94, 59 FR 47801
Appendix A—Legal Authority and Other Administrative Matters | State-wide | 01/15/80 | 07/28/82, 47 FR 32530
Appendix A.2—Idaho Environmental Protection and Health Act, Idaho Code Section 39-101 et seq | State-wide | 03/15/01 | 01/16/03, 68 FR 2217
Four sections of Appendix A.3—Rules and Regulations for Control of Air Pollution in Idaho—that were approved but not incorporated by reference in section (c) | State-wide | 05/17/94 | 01/16/03, 68 FR 2217 | IDAPA 58.01.01000 (legal authority), 58.01.01002 (written interpretations), 58.01.01003 (administrative appeals), and 58.01.01128 (confidential business information).

4. Remove and reserve § 52.679.

§ 52.679 [Remove and reserve]

[FR Doc. 05-619 Filed 1-24-05; 8:45 am]

BILLING CODE 6560-50-P